ENVIRONMENTAL PROTECTION AGENCY

40 CFR Part 52

[EPA-R09-OAR-2022-0972; FRL-10529-03-R9]

Second 10-Year Maintenance Plan for the Coso Junction PM-10 Planning Area; California; Correcting Amendment

AGENCY: Environmental Protection Agency (EPA).

ACTION: Final rule; correction.

SUMMARY: On July 13, 2023, the Environmental Protection Agency (EPA) published a final rule in the Federal Register approving the “Coso Junction PM10 Planning Area Second 10-Year Maintenance Plan” as a revision to the state implementation plan (SIP) for the State of California. In that rulemaking, the EPA inadvertently published a numbering error in the regulatory text codifying the approval in the Code of Federal Regulations (CFR). This document corrects the error in the final rule's regulatory text.

DATES: This action is effective August 14, 2023.

FOR FURTHER INFORMATION CONTACT: Lindsay Wickersham, Planning Section (AIR-2-1), EPA Region IX, 75 Hawthorne Street, San Francisco, CA 94105, (415) 947-4192, or by email at wickersham.lindsay@epa.gov.

SUPPLEMENTARY INFORMATION: In our final rule published July 13, 2023 (88 FR 44707), the EPA included amendatory instructions for codifying the action in 40 CFR part 52. The instructions specified the addition of paragraph 52.220(c)(603) but the number (604) incorrectly appeared in the description of the added regulatory text.

In FR Doc. 2023-14688 appearing on pages 44707-44710 in the Federal Register of Thursday, July 13, 2023, the following correction is made:

§ 52.220 [Corrected]

On page 44710, in the first column, in § 52.220, “(604) The following plan was submitted electronically on October 21, 2021, by the Governor's designee as an attachment to a letter dated October 20, 2021.” is corrected to read “(603) The following plan was submitted electronically on October 21, 2021, by the Governor's designee as an attachment to a letter dated October 20, 2021.”.

Dated: August 2, 2023.
Martha Guzman Aceves,
Regional Administrator, Region IX.

[FR Doc. 2023-17010 Filed 8-11-23; 8:45 am]

BILLING CODE 6560-50-P